DEPARTMENT OF STATE

[Public Notice 10977]

Notice of Public Meeting in Preparation for an International Maritime Organization Committee

The Department of State will conduct an open meeting at 9:30 a.m. on Wednesday, January 8, 2020, at the headquarters of the Radio Technical Commission for Maritime Services (RTCM) in Suite 705, 1621 N Kent Street, Arlington, Virginia 22209. The primary purpose of the meeting is to prepare for the 7th session of the International Maritime Organization's (IMO) Sub-Committee on Navigation, Communication, and Search and Rescue to be held at the IMO Headquarters, United Kingdom, January 15-24, 2020. The agenda items to be considered include:

— Decisions of other IMO bodies

— Routing measures and mandatory ship reporting systems

— Updates to the LRIT system

— Application of the “Indian Regional Navigation Satellite System (IRNSS)” in the maritime field and development of performance standards for shipborne IRNSS receiver equipment

— Recognition of the Japanese regional navigation satellite system Quasi-Zenith Satellite System (QZSS) and development of performance standards for shipborne satellite navigation system receiver equipment

— Revision of the Guidelines for vessel traffic services (resolution A.857(20))

— Consideration of descriptions of Maritime Services in the context of e-navigation

— Updating of the GMDSS master plan and guidelines on MSI Maritime Safety Information (MSI)

— Safety measures for non-SOLAS ships operating in polar waters

— Revision of SOLAS chapters III and IV for Modernization of the GMDSS, including related and consequential amendments to other existing instruments)

— Response to matters related to the Radiocommunication ITU R Study Group and ITU World Radiocommunication Conference

— Revision of the Guidelines on places of refuge for ships in need of assistance (resolution A.949(23))

— Developments in GMDSS satellite services

— Further development of the provision of global maritime SAR services

— Guidelines on harmonized aeronautical and maritime search and rescue procedures, including SAR training matters

— Amendments to the IAMSAR Manual

— Unified interpretation of provisions of IMO safety, security, and environment-related Conventions

— Validated model training courses

— Biennial status report and provisional agenda for NCSR 8

— Election of Chair and Vice-Chair for 2021

— Any other business

Members of the public may attend this meeting up to the seating capacity of the room. Upon request to the meeting coordinator, members of the public may also participate via teleconference, up to the capacity of the teleconference phone line. To facilitate the building security process, and to request reasonable accommodation, those who plan to attend should contact the meeting coordinator, George Detweiler, by email at George.H.Detweiler@uscg.mil, by phone at (202) 372-1566, or in writing at 2703 Martin Luther King Jr. Ave. SE Stop 7418, Washington DC 20593-7418 not later than January 1, 2020, 7 days prior to the meeting. Requests made after January 1, 2020 might not be able to be accommodated. In the case of inclement weather where the U.S. Government is closed or delayed, a public meeting may be conducted virtually. The meeting coordinator will confirm whether the virtual public meeting will be utilized and will provide call in details to those who have registered. Members of the public can find out whether the U.S. Government is delayed or closed by visiting www.opm.gov/status/.

Jeremy M. Greenwood,
Coast Guard Liaison Officer, Office of Ocean and Polar Affairs, Department of State.

[FR Doc. 2019-27912 Filed 12-26-19; 8:45 am]

BILLINGCODE 4710-09-P